FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202)-523-5793 or tradeanalysis@fmc.gov.

Agreement No.: 012334-002.

Title: Hyundai Glovis/Hoegh Transpacific Space Charter Agreement.

Parties: Hoegh Autoliners AS and Hyundai Glovis Co. Ltd.

Filing Party: Wayne R..; Cozen O'Conner.

Synopsis: The Amendment adds the eastbound direction to the geographic scope, expands the scope to cover all U.S. coasts, and adds Singapore, Thailand, Vietnam, Taiwan, Malaysia, Brunei and Indonesia to the scope of the Agreement. It also clarifies authority in Article 5.3.

Proposed Effective Date: 5/15/2019.

Location: http://fmcinet/Fmc.Agreements.Web/Public/AgreementHistory/29.

Agreement No.: 201305.

Agreement Name: CMA CGM/Marfret Mediterranean—Caribbean/US Gulf Vessel Sharing Agreement.

Parties: CMA CGM SA and Compagnie Maritime Marfret S.A.S.

Filing Party: Draughn Arbona; CMA CGM (America) LLC.

Synopsis: The Agreement authorizes the Parties to cooperate on the provision of a weekly liner service in the trade between the U.S. Gulf Coast on the one hand and Italy, France, Spain, Malta, the French Indies, Dominican Republic, Colombia, Mexico, Costa Rica, and Panama on the other hand. The Parties have requested expedited review.

Proposed Effective Date: 6/24/2019.

Location: http://fmcinet/Fmc.Agreements.Web/Public/AgreementHistory/22400.

Agreement No.: 201306.

Title: Seaboard/Zeamarine Space Charter Agreement.

Parties: Seaboard Marine Ltd. and Zeamarine Carrier GmbH.

Filing Party: Wayne R.; Cozen O'Conner.

Synopsis: The Agreement authorizes the Parties to charter space from one another in the trade on an as needed/as available basis between the U.S. Gulf Coast on the one hand and Chile, Colombia, Ecuador and Peru on the other hand.

Proposed Effective Date: 5/15/2019.

Location: http://fmcinet/Fmc.Agreements.Web/Public/AgreementHistory/22401.

Dated: May 17, 2019
JoAnne D. O'Bryant,
Program Analyst.

[FR Doc. 2019-10717 Filed 5-21-19; 8:45 am]

BILLING CODE 6731-AA-P